INTERNATIONAL TRADE COMMISSION

[Investigation No. 337-TA-1001]

Certain Digital Video Receivers and Hardware and Software Components Thereof; Institution of Investigation

AGENCY: U.S. International Trade Commission.

ACTION: Notice.

SUMMARY: Notice is hereby given that a complaint was filed with the U.S. International Trade Commission on April 6, 2016, under section 337 of the Tariff Act of 1930, as amended, 19 U.S.C. 1337, on behalf of Rovi Corporation of San Carlos, California and Rovi Guides, Inc. of San Carlos, California. An amended complaint was filed on April 25, 2016. The complaint, as amended, alleges violations of section 337 based upon the importation into the United States, the sale for importation, and the sale within the United States after importation of certain digital video receivers and hardware and software components thereof by reason of infringement of certain claims of U.S. Patent No. 8,006,263 (“the '263 patent”); U.S. Patent No. 8,578,413 (“the '413 patent”); U.S. Patent No. 8,046,801 (“the '801 patent”); U.S. Patent No. 8,621,512 (“the '512 patent”); U.S. Patent No. 8,768,147 (“the '147 patent”); U.S. Patent No. 8,566,871 (“the '871 patent”); and U.S. Patent No. 6,418,556 (“the '556 patent”). The amended complaint further alleges that an industry in the United States exists as required by subsection (a)(2) of section 337.

The complainants request that the Commission institute an investigation and, after the investigation, issue a limited exclusion order and cease and desist orders.

ADDRESSES: The complaint, as amended, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Docket Services, U.S. International Trade Commission, telephone (202) 205-1802.

Authority: The authority for institution of this investigation is contained in section 337 of the Tariff Act of 1930, as amended, and in section 210.10 of the Commission's Rules of Practice and Procedure, 19 CFR 210.10 (2016).

Scope of Investigation: Having considered the amended complaint, the U.S. International Trade Commission, on May 23, 2016, ordered that—

(1) Pursuant to subsection (b) of section 337 of the Tariff Act of 1930, as amended, an investigation be instituted to determine whether there is a violation of subsection (a)(1)(B) of section 337 in the importation into the United States, the sale for importation, or the sale within the United States after importation of certain digital video receivers and hardware and software components thereof by reason of infringement of one or more of claims 1, 2, 5, 6, 8, 9, 11, 12, 14, 15, 17, and 18 of the '263 patent; claims 1, 3, 5-10, 12, and 14-18 of the '413 patent; claims 1-54 of the '801 patent; claims 1, 2-4, 8-16, and 20-24 of the '512 patent; claims 1, 5, 6, 8, 10, 11, 15, 16, 18, and 20-24 of the '147 patent; claims 1, 2, 6-13, 17-24, 28-33 of the '871 patent; and claims 2-4, 7, 10-14, 16, 18-22, 24, 26, 28, 30, 33, 35, 36, 39, and 40 of the '556 patent, and whether an industry in the United States exists as required by subsection (a)(2) of section 337;

(2) For the purpose of the investigation so instituted, the following are hereby named as parties upon which this notice of investigation shall be served:

(a) The complainants are:

Rovi Corporation, 2 Circle Star Way, San Carlos, CA 94070

Rovi Guides, Inc., 2 Circle Star Way, San Carlos, CA 94070

(b) The respondents are the following entities alleged to be in violation of section 337, and are the parties upon which the amended complaint is to be served:

Comcast Corporation, One Comcast Center, 1701 John F. Kennedy Blvd., Philadelphia, Pennsylvania 19103

Comcast Cable Communications, LLC, One Comcast Center, 1701 John F. Kennedy Blvd., Philadelphia, Pennsylvania 19103

Comcast Cable Communications Management, LLC, One Comcast Center, 1701 John F. Kennedy Blvd., Philadelphia, Pennsylvania 19103

Comcast Business Communications, LLC, One Comcast Center, 1701 John F. Kennedy Blvd., Philadelphia, Pennsylvania 19103

Comcast Holdings Corporation, One Comcast Center, 1701 John F. Kennedy Blvd., Philadelphia, Pennsylvania 19103

Comcast Shared Services, LLC, 330 N. Wabash Ave. 22, Chicago, IL 60611-3586

Technicolor SA, 1-5 Rue Jeanne d'Arc, 92130, Issy-les-Moulineaux, France

Technicolor USA, Inc., 10330 North Meridian Street, Indianapolis, IN 46290

Technicolor Connected Home USA LLC, 101 West 103rd Street, Indianapolis, IN 46290

Pace Ltd., Victoria Road, Saltaire, West Yorkshire, BD18 3LF, England

Pace Americas, LLC, 3701 FAU Boulevard, Suite 200, Boca Raton, FL 33431

Arris International plc, 3871 Lakefield Drive, Suwanee, GA 30024

Arris Group Inc., 3871 Lakefield Drive, Suwanee, GA 30024

Arris Technology, Inc., 101 Tournament Drive, Horsham, PA 19044

Arris Enterprises Inc., 3871 Lakefield Drive, Suwanee, GA 30024

Arris Solutions, Inc., 3871 Lakefield Drive, Suwanee, GA 30024

(3) For the investigation so instituted, the Chief Administrative Law Judge, U.S. International Trade Commission, shall designate the presiding Administrative Law Judge.

The Office of Unfair Import Investigations will not participate as a party in this investigation.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: May 23, 2016.
Lisa R. Barton,
Secretary to the Commission.

[FR Doc. 2016-12466 Filed 5-25-16; 8:45 am]

BILLING CODE 7020-02-P